DEPARTMENT OF ENERGY

Federal Energy Regulatory Commission

[Project No. 6731-015]

Coneross Power Corporation; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor license.

b. Project No.: 6731-015.

c. Date filed: February 28, 2019.

d. Applicant: Coneross Power Corporation.

e. Name of Project: Coneross Hydroelectric Project.

f. Location: The Coneross Hydroelectric Project is located on Coneross Creek in Oconee County, South Carolina. The project does not occupy Federal lands.

g. Filed Pursuant to: Federal Power Act 16 U.S.C. 791 (a)-825(r).

h. Applicant Contact: Mr. Kevin Webb, Hydro Licensing Manager, Enel Green Power North America, Inc., 100 Brickstone Square, Suite 300, Andover, MA 01810, (978) 935-6039.

i. FERC Contact: Jeanne Edwards, (202) 502-6181, jeanne.edwards@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 29, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-6731-015.

m. The application is not ready for environmental analysis at this time.

n. The project consists of: (1) A 288-foot-long, 25-foot-high concrete gravity dam, consisting of: (i) a 55-foot-long east non-overflow section, (ii) a 179-foot-long central overflow spillway topped with 1.5-foot-high flashboards, and (iii) a 110-foot-long west non-overflow section that includes an 8-foot-wide by 8-foot-high intake headgate protected by a 25-foot-long, 19-foot-deep trash rack structure with 2-inch clear bar spacing, and a 7-foot-high, 5-foot-wide sluice gate; (2) a 15.4-acre impoundment at an elevation of 729.5 feet NGVD 29,¹ including the spillway flashboards; (3) a 780-foot-long, 8-foot-diameter concrete penstock extending from the dam to a 65-foot-long, 8-foot-diameter steel penstock attached to a 25-foot-long trifurcation structure that channels flow to the turbine-generator units; (4) a 43-foot-long, 39-foot-wide powerhouse containing two vertical-shaft turbine-generator units and one horizontal-shaft Francis turbine-generator unit for a total installed capacity of 889 kilowatts; (5) a 95-foot-long, 41-foot-wide tailrace channel; (6) a 1,300-foot-long bypassed reach between the dam and the tailrace; (7) a 93-foot-long, 2,300-volt transmission line connecting the powerhouse with the grid via a 2.3/12.47-kilovolt transformer; and (8) appurtenant facilities. The average annual generation was 2,215,800 kilowatt-hours for the period of record from 2008 to 2017.

¹ National Geodetic Vertical Datum of 1929 (NGVD 29) is a national standard for measuring elevations above sea level.

o. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary) | May 2019.
Issue Scoping Document 1 for comments | October 2019.
Comments on Scoping Document 1 | November 2019.
Issue Scoping Document 2 (if necessary) | December 2019.
Issue Notice of Ready for Environmental Analysis | January 2019.
Commission issues EA | September 2020.

Final amendments to the application must be filed with the Commission no later than 30 days from the issuance date of the notice of ready for environmental analysis.

Dated: March 12, 2019.
Kimberly D. Bose,
Secretary.

[FR Doc. 2019-05053 Filed 3-18-19; 8:45 am]

BILLING CODE 6717-01-P